DEPARTMENT OF ENERGY

Federal Energy Regulatory Commission

[Project No. 14775-002]

Marine Renewable Energy Collaborative of New England; Notice of Successive Preliminary Permit Application Accepted for Filing and Soliciting Comments, Motions To Intervene, and Competing Applications

On October 24, 2019, Marine Renewable Energy Collaborative of New England, Inc. filed an application for a successive preliminary permit, pursuant to section 4(f) of the Federal Power Act (FPA), to study the feasibility of the proposed Bourne Tidal Test Site to be located on the Cape Cod Canal, near the Towns of Bourne and Sandwich, in Barnstable County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) A 45-foot-high, 23-foot-wide support structure; (2) a 25-kilowatt turbine-generator unit (other in-stream turbine-generators would also be tested at the site); (3) a 500-foot-long, 13.2-kilovolt transmission line; and (4) appurtenant facilities. The estimated average annual generation of the project would be 54.7 megawatt-hours. The proposed project would occupy approximately 0.10 acres of federal land under the jurisdiction of the U.S. Army Corps of Engineers.

Applicant Contact: John Miller, Executive Director, Marine Renewable Energy Collaborative of New England, Inc., P.O. Box 479, Marion, MA 02738; phone: (508) 728-5825.

FERC Contact: John Baummer; phone: (202) 502-6837 or email at john.baummer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14775-002.

More information about this project, including a copy of the application, can be viewed or printed on the “eLibrary” link of the Commission's website at http://www.ferc.gov/docs-filing/elibrary.asp. Enter the docket number (P-14775) in the docket number field to access the document. For assistance, contact FERC Online Support.

Dated: November 13, 2019.
Kimberly D. Bose,
Secretary.

[FR Doc. 2019-25017 Filed 11-18-19; 8:45 am]

BILLING CODE 6717-01-P